DEPARTMENT OF THE INTERIOR

National Park Service

[NPS-WASO-NRNHL-15565; PPWOCRADI0, PCU00RP14.R50000]

National Register of Historic Places; Notification of Pending Nominations and Related Actions

Nominations for the following properties being considered for listing or related actions in the National Register were received by the National Park Service before April 12, 2014. Pursuant to § 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by May 22, 2014. Before including your address, phone number, email address, or other personal identifying information in your comment, you should be aware that your entire comment—including your personal identifying information—may be made publicly available at any time. While you can ask us in your comment to withhold your personal identifying information from public review, we cannot guarantee that we will be able to do so.

Dated: April 18, 2014.
J. Paul Loether,
Chief, National Register of Historic Places/National Historic Landmarks Program.

ALABAMA

Colbert County

Muscle Shoals Reservation Historic District, Wilson Dam Hwy., Muscle Shoals, 14000241

ARIZONA

Cochise County

U.S. Inspection Station—Douglas, Arizona, (U.S. Border Inspection Stations) Pan American Hwy. & 1st St., Douglas, 14000242

Pima County

U.S. Inspection Station—Sasabe, Arizona, (U.S. Border Inspection Stations) AZ 286, Sasabe, 14000243

Santa Cruz County

U.S. Custom House and U.S. Inspection Office, Morley Gate—Nogales, Arizona, (U.S. Border Inspection Stations) International St. at Morley Ave., Nogales, 14000244

ARKANSAS

Conway County

Morrilton Colored School, (Public Schools in the Ozarks MPS) 906 W. Rock St., Morrilton, 14000245

Craighead County

Kays, Victor Cicero, House, 2506 Aggie Rd., Jonesboro, 14000246

Cross County

Northern Ohio School, 60 AR 184N, Parkin, 14000247

Independence County

Hankins' Store, NE. corner of Ferry Rd. & Main St., Oil Trough, 14000248

Pulaski County

Matthews, Mary H., Lustron House, 5021 Maryland Ave., Little Rock, 14000249

Saline County

Buffington, Dr. T.E., House, 312 W. South St., Benton, 14000250

COLORADO

Routt County

Antlers Cafe and Bar, 40 & 46 Moffat Ave., Yampa, 14000251

IDAHO

Boundary County

U.S. Inspection Station—Porthill, Idaho, (U.S. Border Inspection Stations) ID 1, Porthill, 14000252

ILLINOIS

Cook County

Chrysler Village, Bounded by S. Long & S. Lavergne Aves., W. 63rd & W. 56th Sts., Chicago, 14000254

Peoria County

Lincoln Branch Peoria Public Library, (Illinois Carnegie Libraries MPS) 1312 W. Lincoln Ave., Peoria, 14000256

St. Clair County

Union Trust Bank Company Building, 200 Collinsville Ave., East St. Louis, 14000255

IOWA

Pottawattamie County

Sandwich—Marseilles Manufacturing Building, 1216-1230 S. Main St., Council Bluffs, 14000253

MINNESOTA

Kittson County

U.S. Inspection Station—Noyes, Minnesota, (U.S. Border Inspection Stations) US 75, Noyes, 14000257

NEBRASKA

Douglas County

Drake Court Historic District (Boundary Increase and Decrease), 221-223, 2230, 2236 Jones St., Omaha, 14000258

NEW YORK

Albany County

First Congregational Church of Albany, 405 Quail St., Albany, 14000259

Erie County

Taylor Signal Company—General Railway Signal Company, 1738 Elmwood Ave., Buffalo, 14000260

Kings County

Brooklyn Navy Yard Historic District, Little, Evans, Navy & Williamsburg Sts., Hudson & Flushing Aves., Wallabout Bay, Brooklyn, 14000261

Rensselaer County

Tomhannock Methodist Episcopal Church, Tomhannock Rd., Pittstown, 14000262

NORTH CAROLINA

Guilford County

Highland Cotton Mills Village Historic District, Roughly bounded by W. Market Center Dr., Connor, Jordan & Young Pls., S. Elm St., High point, 14000263

Rowan County

McCanless, Napoleon Bonaparte, House, 619 S. Main St., Salisbury, 14000264

Wake County

South Brick House, (Wake County MPS) 112 E. South Ave., Wake Forest, 14000265

WISCONSIN

Ashland County

Chapple and MacArthur Avenues Residential Historic District, 507-1023 Chapple, 600-810, 814 & 822 MacArthur Aves., 618-622, 700-722, 9th Ave., W., 706-721 6th St., W., Ashland, 14000266

A request to move has been received for the following resource:

MINNESOTA

Beltrami County

Bemidji Carnegie Library, 426 Bemidji Ave., Bemidji, 80001936

A request to remove has been received for the following resources:

ARKANSAS

Stone County

Lancaster, John L., House, Off AR 66, Mountain View, 85002235

Stone County Recorder Building, Off AR 66, Mountain View, 85002242

Yell County

Mickles Bridge, (Historic Bridges of Arkansas MPS) Spanning the Petit Jean R., 0.25 mi. N of AR 10 and approx. one mi. W of Cty. Rd. 49, Mickles, 07000437

[FR Doc. 2014-10400 Filed 5-6-14; 8:45 am]

BILLING CODE 4312-51-P